DEPARTMENT OF ENERGY

Study of the Potential Benefits of Distributed Generation and Rate-Related Issues That May Impede Their Expansion

AGENCY: Office of Electricity Delivery and Energy Reliability (OE), Department of Energy.

ACTION: Notice of availability of a study of the potential benefits of distributed generation and rate-related issues that may impede their expansion, and request for public comment.

SUMMARY: The Department of Energy (DOE) hereby gives notice that it has issued a “Study of the Potential Benefits of Distributed Generation and Rate-Related Issues That May Impede Their Expansion” (DG Study). The DG Study is an analysis called for by Section 1817 of the Energy Policy Act of 2005 (EPAct 2005). Through this Notice, DOE invites public review of the DG Study and submittal of comments on it. DOE requests that comments be submitted electronically (preferably Microsoft® Word .doc format), although written comments may be submitted as well. Submissions should include a cover page containing the reviewer's name, affiliation, telephone number, mailing address, and e-mail address.

Copies of Section 1817 of EPAct 2005 and of the DG Study are available and may be downloaded from the OE Web site: http://www.oe.energy.gov.

DATES: Comments, and other pertinent information offered in response to this Notice must be submitted to and received by DOE no later than April 2, 2007 at any of the addresses listed in the ADDRESSES section.

ADDRESSES: Reviews prepared in electronic formats may be uploaded directly, via the Internet at: http://www.oe.energy.gov/epa_sec1817.htm. Links to this Web page may also be found on the OE Web site.

Comments may also be sent by regular mail to: Mario Sciulli, U.S. Department of Energy, National Energy Technology Laboratory, P.O. Box 10940, MS 922-342C, Pittsburgh, PA 15236; or by e-mail to: mario.sciulli@netl.doe.gov.

FOR FURTHER INFORMATION CONTACT: Mario Sciulli, U.S. Department of Energy, National Energy Technology Laboratory, P.O. Box 10940, MS 922-342C, Pittsburgh, PA 15236, e-mail address: mario.sciulli@netl.doe.gov.

SUPPLEMENTARY INFORMATION:

I. Background

Section 1817 of the Energy Policy Act of 2005 requires that DOE, in consultation with the Federal Energy Regulatory Commission (FERC), conduct a study of the potential benefits of cogeneration and small power production. DOE also must analyze the impact of regulatory mandates, tariffs, rate structures and similar policies on the proliferation of distributed energy technologies. Section 1817 further requires that DOE recommend a methodology for valuing the benefits of distributed generation (DG).

To initiate the DG Study DOE published a “notice of inquiry and request for public comment” in the Federal Register on January 30, 2006 (71 FR 4904). The notice requested public input (such as narratives of experiences, data, case studies, reports and results of analyses, etc.) pertaining to the planning, installation, commissioning and operation of distributed energy systems. The notice also invited interested parties to submit case studies and similar information depicting the impact of regulations, statutes, codes, tariffs, rate structures and other similar policies on the various aspects of DG, combined heat and power (CHP) systems, and related distributed energy technologies. A copy of the January 30, 2006 notice is available on the OE Web page.

II. DG Study, Request for Public Review and Comment, and Report

A. DG Study

DOE has considered and analyzed comments and supporting information received in response to the notice of January 30, 2006, and has completed a DG Study. DOE is hereby announcing that the DG Study is available for public review and inviting all interested parties to submit comments on the DG Study.

B. Submission of Comments

In accordance with Section 1817, DOE requests written comments from interested parties on all aspects of the DG Study. DOE is especially interested in receiving comments from persons with particular knowledge of the legal, economic and technical elements related to the benefits and rate-related issues concerning distributed generation.

C. Report

At the end of the public review period specified in the DATES section of this Notice, DOE will issue a report describing the results of the DG Study and a summary of public comments received. The study may be revised to reflect comments as appropriate. The Secretary of Energy will present the report to the President and Congress. The DG Study report will be released for public distribution shortly thereafter.

The DG Study is available for public inspection at the Department of Energy, Freedom of Information Reading Room, Room 1E-190, 1000 Independence Avenue, SW., Washington, DC 20585 between the hours of 9 a.m. and 4 p.m. Monday through Friday, except for holidays. The report, upon its completion and submission to the President and Congress, will be available at DOE's Freedom of Information Reading Room and at the OE Web site.

Issued in Washington, DC on February 26, 2007.
Kevin M. Kolevar,
Director, Office of Electricity Delivery and Energy Reliability.

[FR Doc. E7-3565 Filed 2-28-07; 8:45 am]

BILLING CODE 6450-01-P